DEPARTMENT OF ENERGY

Federal Energy Regulatory Commission

Combined Notice of Filings #1

December 4, 2007.

Take notice that the Commission has received the following Natural Gas Pipeline Rate and Refund Report filings:

Docket Numbers: RP96-200-183.

Applicants: CenterPoint Energy Gas Transmission Co.

Description: CenterPoint Energy Gas Transmission Company submits a negotiated rate agreement with Coral energy Resources LP.

Filed Date: 11/30/2007.

Accession Number: 20071203-0038.

Comment Date: 5 p.m. Eastern Time on Wednesday, December 12, 2007.

Docket Numbers: RP99-176-147.

Applicants: Natural Gas Pipeline Co. of America.

Description: Natural Gas Pipeline Company of America submits Original Sheet 414A.12 to FERC Gas Tariff, Sixth Revised Volume 1, to become effective 1/1/08 with JP Morgan Ventures Energy Corporation.

Filed Date: 11/30/2007.

Accession Number: 20071203-0039.

Comment Date: 5 p.m. Eastern Time on Wednesday, December 12, 2007.

Docket Numbers: RP00-445-020.

Applicants: Alliance Pipeline L.P.

Description: Alliance Pipeline LP submits Fourteenth Revised Sheet 11 et al. to its FERC Gas Tariff, Original Volume 1, to become effective 1/1/08.

Filed Date: 11/30/2007.

Accession Number: 20071203-0037.

Comment Date: 5 p.m. Eastern Time on Wednesday, December 12, 2007.

Docket Numbers: RP02-361-066.

Applicants: Gulfstream Natural Gas System, L.L.C.

Description: Gulfstream Natural Gas System, LLC's Original Sheet 8.02g et al. to FERC Gas Tariff, Original Volume 1, effective on 12/1/07.

Filed Date: 11/30/2007.

Accession Number: 20071203-0252.

Comment Date: 5 p.m. Eastern Time on Wednesday, December 12, 2007.

Docket Numbers: RP07-479-003.

Applicants: Columbia Gas Transmission Corporation.

Description: Columbia Gas Transmission Corp's First Revised Sheet 540A et al. to FERC Gas Tariff, Second Revised Volume 1, effective on 6/1/08.

Filed Date: 11/30/2007.

Accession Number: 20071203-0250.

Comment Date: 5 p.m. Eastern Time on Wednesday, December 12, 2007.

Docket Numbers: RP07-507-003.

Applicants: Columbia Gas Transmission Corporation.

Description: Columbia Gas Transmission Corp submits its Third Revised Sheet 207 et al. to its FERC Gas Tariff, Second Revised Volume 1, effective on 5/1/08.

Filed Date: 11/30/2007.

Accession Number: 20071203-0249.

Comment Date: 5 p.m. Eastern Time on Wednesday, December 12, 2007.

Docket Numbers: RP08-91-000.

Applicants: CenterPoint Energy Gas Transmission Co.

Description: CenterPoint Energy Gas Transmission Company submits its Annual Report of Penalty Revenue Credits to its FERC Gas Tariff, Sixth Revised Volume 1 which covers the period the twelve month reporting period ended 7/31/07.

Filed Date: 11/30/2007.

Accession Number: 20071203-0033.

Comment Date: 5 p.m. Eastern Time on Wednesday, December 12, 2007.

Docket Numbers: RP08-92-000.

Applicants: National Fuel Gas Supply Corporation.

Description: National Fuel Gas Supply Corporation submits 109th Revised Sheet 9 to its FERC Gas Tariff, Fourth Revised Volume 1, to become effective 12/1/07.

Filed Date: 11/30/2007.

Accession Number: 20071203-0034.

Comment Date: 5 p.m. Eastern Time on Wednesday, December 12, 2007.

Docket Numbers: RP08-93-000.

Applicants: National Fuel Gas Supply Corporation.

Description: National Fuel Gas Supply Corporation submits Eleventh Revised Sheet 43 to its FERC Gas Tariff, Fourth Revised Volume 1, effective on 1/1/08.

Filed Date: 11/30/2007.

Accession Number: 20071203-0036.

Comment Date: 5 p.m. Eastern Time on Wednesday, December 12, 2007.

Docket Numbers: RP08-94-000.

Applicants: East Tennessee Natural Gas, LLC.

Description: East Tennessee Natural Gas, LLC submits First Revised Sheet 307 et al. to FERC Gas Tariff, Third Revised Volume 1, effective on 1/1/08.

Filed Date: 11/30/2007.

Accession Number: 20071203-0263.

Comment Date: 5 p.m. Eastern Time on Wednesday, December 12, 2007.

Docket Numbers: RP08-95-000.

Applicants: Gas Transmission Northwest Corporation.

Description: Gas Transmission Northwest Corporation submits Thirteenth Revised Sheet 4 to FERC Gas Tariff, Third Revised Volume 1-A, effective on 1/1/08.

Filed Date: 11/30/2007.

Accession Number: 20071203-0262.

Comment Date: 5 p.m. Eastern Time on Wednesday, December 12, 2007.

Docket Numbers: RP08-96-000.

Applicants: Gas Transmission Northwest Corporation.

Description: Gas Transmission Northwest Corp submits its final annual fuel charge adjustment in compliance with Paragraph 37 of terms & conditions of its FERC Gas Tariff, Third Revised Volume 1-A.

Filed Date: 11/30/2007.

Accession Number: 20071203-0261.

Comment Date: 5 p.m. Eastern Time on Wednesday, December 12, 2007.

Docket Numbers: RP08-97-000.

Applicants: ANR Pipeline Company.

Description: ANR Pipeline Company submits Eighteenth Revised Sheet 570 et al. to FERC Gas Tariff, Original Volume 2, effective on 1/1/08.

Filed Date: 11/30/2007.

Accession Number: 20071203-0260.

Comment Date: 5 p.m. Eastern Time on Wednesday, December 12, 2007.

Docket Numbers: RP08-98-000.

Applicants: Mojave Pipeline Company.

Description: Mojave Pipeline Company submits Nineteenth Revised Sheet 11 to FERC Gas Tariff, Second Revised Volume 1, to become effective on 1/1/08.

Filed Date: 11/30/2007.

Accession Number: 20071203-0259.

Comment Date: 5 p.m. Eastern Time on Wednesday, December 12, 2007.

Docket Numbers: RP08-99-000.

Applicants: El Paso Natural Gas Company.

Description: El Paso Natural Gas Company submits Fifth Revised Sheet 374 to FERC Gas Tariff, Second Revised Volume 1-A, effective on 1/1/08.

Filed Date: 11/30/2007.

Accession Number: 20071203-0258.

Comment Date: 5 p.m. Eastern Time on Wednesday, December 12, 2007.

Docket Numbers: RP08-100-000.

Applicants: El Paso Natural Gas Company.

Description: El Paso Natural Gas Co submits their Third Revised Sheet 29.01 to its FERC Gas Tariff, Second Revised Volume 1-A, effective on 1/1/08.

Filed Date: 11/30/2007.

Accession Number: 20071203-0257.

Comment Date: 5 p.m. Eastern Time on Wednesday, December 12, 2007.

Docket Numbers: RP08-101-000.

Applicants: Tennessee Gas Pipeline Company.

Description: Tennessee Gas Pipeline Co submits their September 2006 through August 2007 Cash out Report.

Filed Date: 11/30/2007.

Accession Number: 20071203-0255.

Comment Date: 5 p.m. Eastern Time on Wednesday, December 12, 2007.

Docket Numbers: RP08-102-000.

Applicants: Cheyenne Plains Gas Pipeline Company LLC.

Description: Cheyenne Plains Gas Pipeline Co, LLC submits Second Revised Sheet 222 et al. to FERC Gas Tariff, Original Volume 1, effective on 1/1/08.

Filed Date: 11/30/2007.

Accession Number: 20071203-0256.

Comment Date: 5 p.m. Eastern Time on Wednesday, December 12, 2007.

Docket Numbers: RP08-103-000.

Applicants: Cheyenne Plains Gas Pipeline Company LLC.

Description: Cheyenne Plains Gas Pipeline Co, LLC submits a firm transportation service agreement with Coral Energy Resources, LP.

Filed Date: 11/30/2007.

Accession Number: 20071203-0254.

Comment Date: 5 p.m. Eastern Time on Wednesday, December 12, 2007.

Docket Numbers: RP08-104-000.

Applicants: Colorado Interstate Gas Company.

Description: Colorado Interstate Gas Co. submits their Fuel Reimbursement Percentage Filing.

Filed Date: 11/30/2007.

Accession Number: 20071203-0253.

Comment Date: 5 p.m. Eastern Time on Wednesday, December 12, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E7-23849 Filed 12-7-07; 8:45 am]

BILLING CODE 6717-01-P